DEPARTMENT OF TRANSPORTATION

Coast Guard

33 CFR Parts 100 and 165

[USCG-2002-11544]

Safety Zones, Security Zones, and Special Local Regulations

AGENCY: Coast Guard, DOT.

ACTION: Notice of temporary rules issued.

SUMMARY: This document provides required notice of substantive rules issued by the Coast Guard and temporarily effective between July 1, 2001 and December 31, 2001, which were nob published in the Federal Register. This quarterly notice lists temporary local regulations, security zones, and safety zones of limited duration and for which timely publication in the Federal Register was not possible.

DATES: This notice lists temporary Coast Guard regulations that became effective and were terminated between July 1, 2001 and December 31, 2001.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact Christena Green, Office of Regulations and Administration Law, telephone (202) 267-0133. For questions on viewing, or on submitting material to the docket, contact Dorothy Beard, Chief, Dockets, Department of Transportation (202) 366-5149.

SUPPLEMENTARY INFORMATION: District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. The affected public is, however, informed of these regulations through Local Notices to Mariners, press releases, and other means. Moreover, actual notification is provided by Coast Guard patrol vessels enforcing the restrictions imposed by the regulation. Because Federal Register publication was not possible before the beginning of the effective period, mariners were personally notified of the contents of these special local regulations, security zones, or safety zones by Coast Guard officials on-scene prior to enforcement action. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period from July 1, 2001 through December 31, 2001, unless otherwise indicated. This notice also includes regulations that were not received in time to be included on the quarterly notice for the first and second quarter of 2001.

Dated: February 25, 2002.
S.G. Venckus,
Chief, Office of Regulations and Administrative Law.

COTP Quarterly Report for 3rd Quarter
COTP docket | Location | Type | Effective date
CHARLESTON 01-079 | CHARLESTON, SC | SAFETY ZONE | 08/09/2001
CORPUS CHRISTI 01-001 | PORT ISABEL, TX | SAFETY ZONE | 09/15/2001
HUNTINGTON 01-001 | OHIO RIVER, M. 356 TO 356.6 | SAFETY ZONE | 08/24/2001
JACKSONVILLE 01-061 | ATLANTIC OCEAN, COCOA BEACH, FL | SAFETY ZONE | 07/04/2001
JACKSONVILLE 01-062 | FERNANDINA BEACH, FL | SAFETY ZONE | 07/04/2001
JACKSONVILLE 01-064 | INTRACOASTAL WATERWAY, MELBOURNE | SAFETY ZONE | 07/04/2001
JACKSONVILLE 01-065 | ST. JOHNS RIVER, ORANGE PARK, FL | SAFETY ZONE | 07/04/2001
JACKSONVILLE 01-066 | ORMOND BEACH, FL | SAFETY ZONE | 07/04/2001
JACKSONVILLE 01-067 | MATANZAS RIVER, ST. AUGUSTINE, FL | SAFETY ZONE | 07/04/2001
JACKSONVILLE 01-068 | JACKSONVILLE, FL | SAFETY ZONE | 07/04/2001
JACKSONVILLE 01-069 | INDIAN RIVER, TITUSVILLE, FL | SAFETY ZONE | 07/04/2001
JACKSONVILLE 01-070 | AMELIA ISLAND PLANATATION, AMELIA IS | SAFETY ZONE | 07/04/2001
JACKSONVILLE 01-071 | 4TH OF JULY CELEBRATION, COCAO, FL | SAFETY ZONE | 07/04/2001
JACKSONVILLE 01-072 | ATLANTIC OCEAN, DAYTONA BEACH, FL | SAFETY ZONE | 07/04/2001
JACKSONVILLE 01-102 | JACKSONVILLE, FL | SAFETY ZONE | 09/18/2001
JACKSONVILLE 01-111 | JACKSONVILLE, FL | SAFETY ZONE | 09/23/2001
JACKSONVILLE 01-113 | JACKSONVILLE, FL | SAFETY ZONE | 09/30/2001
LA/LONG BEACH 01-004 | HUNTINGTON BEACH, CA | SAFETY ZONE | 08/19/2001
LA/LONG BEACH 01-006 | PURISIMA POINT, CA | SAFETY ZONE | 07/14/2001
LOUISVILLE 01-004 | OHIO RIVER, M. 603 TO 604 | SAFETY ZONE | 07/03/2001
LOUISVILLE 01-005 | CINCINNATI, OHIO | SAFETY ZONE | 07/01/2001
LOUISVILLE 01-006 | OHIO RIVER, M. 791.5 TO 792.5 | SAFETY ZONE | 07/04/2001
LOUISVILLE 01-008 | OHIO RIVER, M. 529.5 TO 530.5 | SAFETY ZONE | 07/04/2001
LOUISVILLE 01-010 | CINCINNATI, OH | SAFETY ZONE | 09/02/2001
LOUISVILLE 01-011 | NEWPORT, KY | SAFETY ZONE | 09/29/2001
MEMPHIS 01-008 | MISSISSIPPI RIVER, M. 595 TO 618 | SAFETY ZONE | 08/20/2001
MEMPHIS 01-009 | MEMPHIS, TN | SAFETY ZONE | 08/11/2001
MEMPHIS 01-010 | LWR MISSISSIPPI RIVER, M. 507 TO 882.7 | SECURITY ZONE | 09/11/2001
MEMPHIS 01-011 | LWR MISSISSIPPI RIVER, M. 507 TO 882.7 | SAFETY ZONE | 09/12/2001
MIAMI 01-075 | KEY BISCAYNE, FLORIDA | SAFETY ZONE | 07/13/2001
MIAMI 01-076 | BISCAYNE NATIONAL PARK, FLORIDA | SAFETY ZONE | 07/17/2001
MIAMI 01-081 | HALLANDALE BEACH, FLORIDA | SAFETY ZONE | 08/14/2001
MIAMI 01-093 | VARIOIUS FLORIDA ZONES | SECURITY ZONE | 09/11/2001
MIAMI 01-106 | FLORIDA CITY, FL | SECURITY ZONE | 090/21/2001
MOBILE 01-006 | PENSACOLA SHIP CHANNEL AND BAY | SAFETY ZONE | 07/23/2001
MOBILE 01-007 | MOBILE RIVER | SECURITY ZONE | 07/03/2001
MOBILE 01-008 | PORTS PENSACOLA & PANAMA CITY | SAFETY ZONE | 08/05/2001
MOBILE 01-009 | MOUTH OF PASCAGOULA RIVER | SECURITY ZONE | 09/11/2001
MOBILE 01-010 | MOBILE RIVER, BENDER SHIPYARD | SECURITY ZONE | 09/11/2001
MOBILE 01-011 | MOBILE, AL | SAFETY ZONE | 09/11/2001
MORGAN CITY 01-002 | MORGAN CITY, LOUISIANA | SAFETY ZONE | 09/13/2001
NEW ORLEANS 01-011 | LAKE PONTCHARTRAIN, LA | SAFETY ZONE | 08/11/2001
NEW ORLEANS 01-013 | LWR MISSISSIPPI RIVER, M. 137 TO 139 | SAFETY ZONE | 07/03/2001
NEW ORLEANS 01-014 | LWR MISSISSIPPI RIVER, M. 120 TO 122 | SAFETY ZONE | 07/03/2001
NEW ORLEANS 01-015 | LWR MISSISSIPPI RIVER, M. 174.5 TO 176.5 | SAFETY ZONE | 07/03/2001
NEW ORLEANS 01-016 | LWR MISSISSIPPI RIVER, M. 228.5 TO 230.5 | SAFETY ZONE | 07/04/2001
NEW ORLEANS 01-017 | LWR MISSISSIPPI RIVER, M. 362 TO 264 | SAFETY ZONE | 07/04/2001
NEW ORLEANS 01-018 | RED RIVER, M. 226.5 TO 228.5 | SAFETY ZONE | 07/04/2001
NEW ORLEANS 01-021 | MISSISSIPPI RIVER, M. 430 TO GULF OF ME | SAFETY ZONE | 08/19/2001
NEW ORLEANS 01-024 | LWR MISSISSIPPI RIVER, M. 93.5 to 92.5 | SECURITY ZONE | 09/14/2001
PADUCAH 01-002 | UPPER MISSISSIPPI RIVER, M. 52 TO 53 | SAFETY ZONE | 07/04/2001
PADUCAH 01-003 | METROPOLIS, IL | SAFETY ZONE | 09/29/2001
PORT ARTHUR 01-008 | SABINE-NECHES CANAL, PORT ARTHUR, T | SAFETY ZONE | 07/04/2001
PORT ARTHUR 01-009 | PORT ARTHUR, TX | SAFETY ZONE | 08/06/2001
PORT ARTHUR 01-010 | TRANSIT OF USNS SHUGHART, BEAUMONT | SAFETY ZONE | 09/11/2001
PORT ARTHUR 01-011 | PORT ARTHUR, TX | SAFETY ZONE | 09/13/2001
PORT ARTHUR 01-012 | TRANSIT OF M/V GENT, BEAUMONT, TX | SAFETY ZONE | 09/21/2001
SAN DIEGO 01-017 | CORONADO BRIDGE JUMP, SAN DIEGO, CA | SAFETY ZONE | 08/27/2001
SAN DIEGO 01-018 | MISSION BAY, SAN DIEGO, CA | SAFETY ZONE | 09/14/2001
SAN JUAN 01-087 | SAN JUAN AND ARECIBO, PUERTO RICO | SAFETY ZONE | 08/22/2001
WESTERN ALASKA 01-002 | KODIAK ISLAND, AK | SAFETY ZONE | 09/24/2001
WESTERN ALASKA 01-004 | PIER, NIKISKI, AK | SECURITY ZONE | 09/20/2001
WESTERN ALASKA 01-005 | NIKISKI, AK | SECURITY ZONE | 09/30/2001
01-01-068 | MARBLEHEAD, MA | SAFETY ZONE | 07/08/2001
01-01-092 | FIREWORKS DISPLAY, NEW BEDFOR, MA | SAFETY ZONE | 07/08/2001
01-01-101 | ST. PETER'S FIESTA FIREWORKS, GLOUCESTER, MA | SAFETY ZONE | 07/01/2001
01-01-111 | HINGHAM 4TH OF JULY FIREWORKS, HINGHAM, MA | SAFETY ZONE | 07/01/2001
01-01-112 | HULL CHAMBER OF COMMERCE FIREWORKS, HULL, MA | SAFETY ZONE | 07/07/2001
01-01-113 | NEW JERSEY PIERHEAD CHANNEL AND KILL VAN KULL | SAFETY ZONE | 07/04/2001
01-01-114 | 4TH OF JULY FIREWORKS, GLOUCESTER, MA | SAFETY ZONE | 07/03/2001
01-01-117 | PRESIDENTIAL VISIT, PORT OF NY/NJ | SECURITY ZONE | 07/10/2001
01-01-120 | NEWTON CREEK, NEW YORK | SAFETY ZONE | 07/15/2001
01-01-122 | EDS ATLANTIC CHALLENGE, BOSTON, MA | SAFETY ZONE | 08/11/2001
01-01-123 | SALEM HERITAGE DAYS FIREWORKS, SALEM, MA | SAFETY ZONE | 08/18/2001
01-01-124 | BOSTON LIGHT SWIM/10 NM, BOSTON, MA | SAFETY ZONE | 08/18/2001
01-01-126 | GLOUCESTER, MA | SAFETY ZONE | 09/01/2001
01-01-127 | BOSTON, MASSACHUSETTS | SAFETY ZONE | 08/04/2001
01-01-128 | GLOUCESTER, MASSACHUSETTS | SAFETY ZONE | 08/04/2001
01-01-130 | NEWPORT, RHODE ISLAND | SAFETY ZONE | 08/06/2001
01-01-132 | SWIM BUZZARDS BAY, NEW BEDFORD, MA | SAFETY ZONE | 08/18/2001
01-01-134 | ROCKLAND HARBOR, ROCKLAND, ME | SECURITY ZONE | 08/02/2001
01-01-136 | GLOUCESTER, MA | SAFETY ZONE | 08/07/2001
01-01-138 | BOSTON, MA | SAFETY ZONE | 08/13/2001
01-01-140 | USS BARRY PORT VISIT, WINTER HARBOR, MAINE | SECURITY ZONE | 08/09/2001
01-01-141 | USS BARRY PORT VISIT, BAR HARBOR, ME | SECURITY ZONE | 08/10/2001
01-01-143 | NEW JERSEY PIER HEAD CHANNEL AND KILL VAN KUL | SAFETY ZONE | 08/19/2001
01-01-145 | USS CARR PORT VISIT, BOSTON, MASSACHUSETTS | SAFETY ZONE | 08/04/2001
01-01-149 | USS CARR PORT VISIT, GLOUCESTER, MA | SAFETY ZONE | 08/31/2001
01-01-150 | USS BARRY PORT VISIT, BAR HARBOR, ME | SAFETY ZONE | 08/09/2001
01-01-159 | BOSTON, MASSACHUSETTS | SAFETY ZONE | 09/07/2001
01-01-160 | BOSTON INNER HARBOR, MASSACHUSETTS | SECURITY ZONE | 09/14/2001
01-01-179 | LNG GAS CARRIER TRANSITS, BOSTON, MA | SECURITY ZONE | 09/25/2001
05-01-035 | POINT PLEASANT BEACH, NEW JERSEY | SPECIAL LOCAL | 07/19/2001
05-01-037 | CHESTER RIVER, CHESTERTOWN, MARYLAND | SAFETY ZONE | 07/14/2001
05-01-042 | ST. MARYS RIVER, PATUXENT RIVER, MARYLAND | SAFETY ZONE | 07/28/2001
05-01-043 | NORTHWEST AND INNER HARBORS, BALTIMORE, MD | SAFETY ZONE | 09/07/2001
05-01-044 | CHESAPEAKE BAY, HAMPTON, VA | SAFETY ZONE | 08/02/2001
05-01-061 | BALTIMORE HARBOR, BALTIMORE, MD | SECURITY ZONE | 09/11/2001
05-01-062 | ARLINGTON AND FAIRFAX COUNTIES, VA | SECURITY ZONE | 09/11/2001
05-01-063 | CHESAPEAKE BAY | SECURITY ZONE | 09/13/2001
05-01-064 | ARLINGTON AND FAIRFAX COUNTIES, VA | SECURITY ZONE | 09/18/2001
07-01-074 | FORT LAUDERDALE, FLORIDA | SAFETY ZONE | 07/31/2001
07-01-084 | SAVANNAH RIVER, SAVANNAH, GA | SPECIAL LOCAL | 08/25/2001
07-01-085 | CHARLESTON HARBOR, CHARLESTON, SC | SPECIAL LOCAL | 09/06/2001
09-01-012 | LAKE ERIE, BUFFALO, NEW YORK | SAFETY ZONE | 07/04/2001
09-01-020 | NIAGARA RIVER, TONAWANDA, NEW YORK | SAFETY ZONE | 07/04/2001
09-01-037 | KALAMAZOO LAKE, SAUGATUCK, MI | SAFETY ZONE | 07/28/2001
09-01-041 | LAKE MICHIGAN, PENTWATER, MI | SAFETY ZONE | 07/03/2001
09-01-044 | MILWAUKEE HARBOR, MILWAUKEE, WI | SAFETY ZONE | 08/19/2001
09-01-045 | ALGOMA HARBOR, WISCONSIN | SAFETY ZONE | 08/12/2001
09-01-062 | LAKE ONTARIO, OSWEGO, NEW YORK | SAFETY ZONE | 07/01/2001
09-01-065 | LAKE KALAMAZOO, SAUGATUCK, MI | SAFETY ZONE | 07/04/2001
09-01-066 | LAKE MICHIGAN, MANISTEE, MI | SAFETY ZONE | 07/04/2001
09-01-069 | LAKE MICHIGAN, CHICAGO, IL | SAFETY ZONE | 07/03/2001
09-01-079 | LAKE MICHIGAN, GARY, IN | SAFETY ZONE | 07/06/2001
09-01-085 | LAKE MICHIGAN, MICHIGAN CITY, IN | SAFETY ZONE | 07/15/2001
09-01-086 | LAKE MICHIGAN, ST. JOSEPH, MI | SAFETY ZONE | 07/19/2001
09-01-091 | MILWAUKEE HARBOR | SAFETY ZONE | 07/13/2001
09-01-093 | LAKE MICHIGAN, CHICAGO, IL | SAFETY ZONE | 07/14/2001
09-01-095 | LAKE MICHIGAN, FERRYSBURG, MI | SAFETY ZONE | 07/21/2001
09-01-096 | GRAND RIVER, GRAND HAVEN, MI | SAFETY ZONE | 08/02/2001
09-01-098 | BAY CITY, SAGINAW RIVER, MI | SAFETY ZONE | 07/28/2001
09-01-100 | TRENTON CHANNEL AND DETROIT RIVER, MI | SAFETY ZONE | 07/14/2001
09-01-102 | DETROIT RIVER, MI | SAFETY ZONE | 07/20/2001
09-01-105 | OSWEGO HARBOR, OSWEGO, NY | SAFETY ZONE | 07/29/2001
09-01-106 | GRAND RIVER, GRAND HAVEN, MI | SAFETY ZONE | 07/30/2001
09-01-108 | LAKE MICHIGAN, NEW BUFFALO, MI | SAFETY ZONE | 08/04/2001
09-01-109 | GRAND RIVER, GRAND HAVEN, MI | SAFETY ZONE | 08/14/2001
09-01-113 | MILWAUKEE, WISCONSIN | SAFETY ZONE | 08/05/2001
09-01-120 | CITY OF RIVER ROUGE, DETROIT RIVER, MI | SAFETY ZONE | 08/31/2001
11-01-012 | LONG BEACH, CA | SPECIAL LOCAL | 07/28/2001
13-01-013 | MOVEMENT OF DRYDOCK NUMBER FOUR, OREGON | SAFETY ZONE | 07/02/2001
13-01-017 | LAKE WASHINGTON, WA | SAFETY ZONE | 07/13/2001
13-01-026 | PUGET SOUND, WA | SECURITY ZONE | 09/12/2001

COTP Quarterly Report for 4th Quarter
COTP docket | Location | Type | Effective date
CHARLESTON 01-124 | COOPER RIVER, SOUTH CAROLINA | SECURITY ZONE | 10/17/2001
HONOLULU 01-060 | KAILUA-KONA HAWAII COUNTY | SAFETY ZONE | 10/06/2001
HONOLULU 01-061 | SOUTH SHORES OF THE ISLAND OF OAHU | SAFETY ZONE | 11/24/2001
JACKSONVILLE 01-134 | ATLANTIC OCEAN, DAYTONA BEACH, FL | SAFETY ZONE | 11/09/2001
JACKSONVILLE 01-138 | ST. JOHNS RIVER, JACKSONVILLE, FL | SAFETY ZONE | 11/24/2001
LA/LONG BEACH 01-007 | PIERPOINT BAY, VENTURA, CA | SAFETY ZONE | 10/14/2001
LA/LONG BEACH 01-012 | LONG BEACH, CA | SAFETY ZONE | 12/01/2001
MIAMI 01-140 | PORT OF MIAMI, MIAMI BEACH, FL | SAFETY ZONE | 12/31/2001
NEW ORLEANS 01-026 | MISSISSIPPI RIVER, M. 99 TO 96 | SAFETY ZONE | 10/06/2001
NEW ORLEANS 01-027 | MISSISSIPPI RIVER, M. 229 TO 231 | SAFETY ZONE | 10/14/2001
NEW ORLEANS 01/028 | MISSISSIPPI RIVER, M. 363 TO 365 | SAFETY ZONE | 10/20/2001
NEW ORLEANS 01-029 | MISSISSIPPI RIVER, M. 104 TO 108 | SAFETY ZONE | 12/02/2001
NEW ORLEANS 01-030 | LAKE PONTCHARTRAIN, LA | SAFETY ZONE | 12/08/2001
SAN DIEGO 01-023 | SAN CLEMENTE ISLAND | SECURITY ZONE | 11/20/2001
SAN DIEGO 01-024 | THANKSGIVING REGATTA | SAFETY ZONE | 11/23/2001
ST LOUIS 01-002 | MISSISSIPPI RIVER, M 797 T0 802 | SECURITY ZONE | 10/30/2001
WESTERN ALASKA 01-006 | KIKISKI, AK | SECURITY ZONE | 10/09/2001
WESTERN ALASKA 01-009 | LNG PIER, NIKISKI, AK | SECURITY ZONE | 10/29/2001
WESTERN ALASKA 01-011 | COOK INLET, AK | SECURITY ZONE | 11/28/2001
WESTERN ALASKA 01-013 | COOK INLET, AK | SECURITY ZONE | 12/18/2001
WESTERN ALASKA 01-014 | COOK INLET, AK | SECURITY ZONE | 12/28/2001

District Quarterly Report for 4th Quarter
District docket | Location | Type | Effective date
01-01-186 | BOSTON, MA | SAFETY ZONE | 10/08/2001
01-01-189 | EAST BOSTON, MA | SAFETY ZONE | 10/09/2001
01-01-190 | HULL, MA | SAFETY ZONE | 10/20/2001
01-01-191 | BOSTON, MA | SAFETY ZONE | 10/22/2001
01-01-194 | BOSTON HARBOR, BOSTON, MA | SAFETY ZONE | 11/03/2001
01-01-199 | GLOUCHESTER, MA | SAFETY ZONE | 11/09/2001
01-01-201 | PILGRIM NUCLEAR POWER PLANT, PLYMOUTH, MA | SAFETY ZONE | 11/05/2001
01-01-208 | JAMAICA BY, NY | SECURITY ZONE | 11/07/2001
01-01-209 | EAST RIVER, NY | SECURITY ZONE | 11/10/2001
01-01-221 | CHELSEA RIVER, BOSTON, MA | SAFETY ZONE | 12/11/2001
01-01-224 | BOSTON, MA | SECURITY ZONE | 12/10/2001
05-01-059 | JAMES RIVER, WILLIAMSBURG, VA | SAFETY ZONE | 10/02/2001
05-01-067 | PORTSMOUTH, VA | SPECIAL LOCAL | 10/13/2001
05-01-068 | SPA CREEK, ANNAPOLIS, MD | SPECIAL LOCAL | 11/03/2001
05-01-073 | NORFOLK NAVAL STATION VICINITY | SECURITY ZONE | 11/10/2001
05-01-074 | ELIZABETH RIVER, VA | SECURITY ZONE | 11/11/2001
05-01-077 | NORFOLK REACH AND VICINITY | SECURITY ZONE | 11/21/2001
05-01-079 | HAMPTON ROADS, VA | SECURITY ZONE | 12/07/2001
07-01-086 | CHARLESTON HARBOR, CHARLESTON, SC | SPECIAL LOCAL | 10/12/2001
07-01-104 | MIAMI, FL | SPECIAL LOCAL | 10/06/2001
07-01-109 | TAMPA BAY, ST PETERSBURG, FL | SPECIAL LOCAL | 10/05/2001
07-01-118 | AUGUSTA, GA | SPECIAL LOCAL | 10/12/2001
07-01-125 | ST. CROIX, USVI | SECURITY ZONE | 10/16/2001
09-01-141 | CHICAGO, IL | SAFETY ZONE | 10/13/2001
09-01-144 | MAUMEE RIVER, TOLEDO, OH | SAFETY ZONE | 10/17/2001
09-01-146 | MARINETTE, WI | SECURITY ZONE | 10/27/2001
09-01-150 | LAKE ERIE, MAUMEE RIVER, OH | SAFETY ZONE | 12/31/2001
09-01-152 | DETROIT, DETROIT RIVER, MI | SAFETY ZONE | 12/15/2001

Regulations not on previous 1st and 2nd Quarterly Report
District/COTP | Location | Type | Effective date
COTP REGULATIONS FOR 1ST QUARTER
HOUSTON-GALVESTON 01-003 | HOUSTON, TX | SAFETY ZONE | 03/12/01
HOUSTON-GALVESTON 01-004 | HOUSTON, TX | SAFETY ZONE | 03/21/01
HOUSTON-GALVESTON 01-005 | HOUSTON, TX | SAFETY ZONE | 03/29/01
PORT ARTHUR 01-001 | PORT OF PORT ARTHUR/ORANGE, TX | SAFETY ZONE | 01/24/01
PORT ARTHUR 01-002 | PORT OF PORT ARTHUR/ORANGE, TX | SAFETY ZONE | 01/26/01
COTP REGULATIONS FOR 2ND QUARTER
MOBILE 01-005 | GULF INTRACOASTAL WATERWAY | SAFETY ZONE | 04/17/01

[FR Doc. 02-4848 Filed 2-27-02; 8:45 am]

BILLING CODE 4910-15-M